DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of five individuals and three entities whose property and interests in property have been blocked pursuant to the Foreign Narcotics Kingpin Designation Act (“Kingpin Act”) (21 U.S.C. 1901-1908, 8 U.S.C. 1182).

DATES: The designation by the Director of OFAC of the five individuals and three entities identified in this notice pursuant to section 805(b) of the Kingpin Act is effective on June 17, 2010.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 17, 2010, the Director of OFAC designated five individuals and three entities whose property and interests in property are blocked pursuant to section 805(b) of the Foreign Narcotics Kingpin Designation Act.

The list of additional designees is as follows:

Individuals:

1. SOLARTE CERON, Olidem Romel (a.k.a. SOLARTE CERON, Oliver); Colombia; DOB 05 Feb 1971; Citizen Colombia; Cedula No. 18153797 (Colombia); (INDIVIDUAL) [SDNTK].

2. OSTAIZA AMAY, Jefferson Omar, c/o MULTINACIONAL INTEGRAL PRODUCTIVA JOOAMY EMA, Quito, Pichincha, Ecuador; DOB 16 Nov 1973; POB Santo Domingo, Ecuador; Citizen Ecuador; Cedula No. 1712394947 (Ecuador); Passport 1712394947 (Ecuador); (INDIVIDUAL) [SDNTK].

3. OSTAIZA AMAY, Edison Ariolfo, c/o MULTINACIONAL INTEGRAL PRODUCTIVA JOOAMY EMA, Quito, Pichincha, Ecuador; DOB 19 Jul 1975; Citizen Ecuador; Cedula No. 1713602009 (Ecuador); Passport 1713602009 (Ecuador); (INDIVIDUAL) [SDNTK].

4. OSTAIZA AMAY, Miguel Angel, Ecuador; DOB 08 Dec 1976; POB Ecuador; Citizen Ecuador; Cedula No. 1713513834 (Ecuador); Passport 1713513834 (Ecuador); (INDIVIDUAL) [SDNTK].

5. MONTENEGRO VALLEJOS, Gilma, Colombia; DOB 17 Jul 1969; POB Bogota, Colombia; Citizen Colombia; (INDIVIDUAL) [SDNTK].

Entities:

1. MULTINACIONAL INTEGRAL PRODUCTIVA JOOAMY EMA, Avenida Amazonas 40-80 y Union Nacional De Periodistas, Edificio Puertas del Sol, Piso 6, Quito, Pichincha, Ecuador; RUC # 1792068347001 (Ecuador); (ENTITY) [SDNTK].

2. AGROPECUARIA SAN CAYETANO DE COSTA RICA LTDA, Centro Comercial El Lago, San Rafael de Escazu, San Jose, Costa Rica; Commercial Registry Number CJ 3-102-285524 (Costa Rica); (ENTITY) [SDNTK].

3. ARROCERA EL GAUCHO S.A., De la Embajada de Estados Unidos, 300 metros Norte, 25 metros Este, Rohrmoser, San Jose, Costa Rica; Commercial Registry Number CJ 3101304888 (Costa Rica); (ENTITY) [SDNTK].

In addition, OFAC has made a change to the following listing of one individual previously designated pursuant to the Kingpin Act:

1. MELO PERILLA, Jose Cayetano, c/o CARILLANCA COLOMBIA Y CIA S EN CS, Bogota, Colombia; c/o CARILLANCA S.A., San Jose, Costa Rica; c/o CARILLANCA C.A., Arismendi, Nueva Esparta, Venezuela; c/o PARQUEADERO DE LA 25-13, Bogota, Colombia; DOB 07 Nov 1957; POB Ibague, Tolima, Colombia; Citizen Colombia; Cedula No. 5882964 (Colombia); Passport 5882964 (Colombia); Residency Number 003-5506420-0100028 (Costa Rica); (INDIVIDUAL) [SDNTK].

The listing now appears as follows:

1. MELO PERILLA, Jose Cayetano, c/o CARILLANCA COLOMBIA Y CIA S EN CS, Bogota, Colombia; c/o CARILLANCA S.A., San Jose, Costa Rica; c/o CARILLANCA C.A., Arismendi, Nueva Esparta, Venezuela; c/o PARQUEADERO DE LA 25-13, Bogota, Colombia; c/o AGROPECUARIA SAN CAYETANO DE COSTA RICA LTDA, San Jose, Costa Rica; c/o ARROCERA EL GAUCHO S.A., San Jose, Costa Rica; DOB 07 Nov 1957; POB Ibague, Tolima, Colombia; Citizen Colombia; Cedula No. 5882964 (Colombia); Passport 5882964 (Colombia); Residency Number 003-5506420-0100028 (Costa Rica); (INDIVIDUAL) [SDNTK].

Dated: June 17, 2010.
Adam J. Szubin,
Director, Office of Foreign Assets Control.

[FR Doc. 2010-15376 Filed 6-24-10; 8:45 am]

BILLING CODE 4810-AL-P